DEPARTMENT OF THE INTERIOR

Bureau of Indian Affairs

Land Acquisitions; United Auburn Indian Community of California

AGENCY: Bureau of Indian Affairs, Interior.

ACTION: Notice of final agency determination to take land into trust under 25 CFR Part 151.

SUMMARY: The Assistant Secretary—Indian Affairs made a final agency determination to acquire approximately 49.21 acres, more or less, of land into trust for the United Auburn Indian Community of California on February 5, 2002. This notice is published in the exercise of authority delegated by the Secretary of the Interior to the Assistant Secretary—Indian Affairs by 209 Departmental Manual 8.1.

FOR FURTHER INFORMATION CONTACT: Nancy J. Pierskalla, Office of Indian Gaming Management, Bureau of Indian Affairs, MS-2070 MIB, 1849 C Street NW., Washington, DC 20240; Telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On February 5, 2002, the Assistant Secretary—Indian Affairs decided to accept approximately 49.21 acres, more or less, of land into trust for the United Auburn Indian Community of California pursuant to Section 1300I of the Auburn Indian Restoration Act of October 31, 1994, 25 U.S.C. 1300I (1994). The Secretary shall acquire title in the name of the United States in trust for the United Auburn Indian Community of California for the following parcel of land described below no sooner than 30 days after the date of this notice.

That portion of Parcel “B” described in the Resolution to Approve a Minor Boundary Line Adjustment recorded June 27, 1997, as Instrument No. 97-0037123, Official Records of Placer County, located in Section 33, Township 12 North, Range 6 East, Mount Diablo Meridian, Placer County, California, as shown on the Record of Survey filed in Book 9 of Surveys, Page 19, Placer County Records, described as follows:

Beginning at the southeasterly corner of said Parcel “B,” thence along the boundary of said Parcel “B” the following three courses and distances: (1) North 00°31′40″ East 616.00 feet; (2) South 89°53′59″ West 285.00 feet; and (3) North 00°13′49″ East 186.41 feet; thence, leaving said boundary, South 89°53′59″ West 150.00 feet; thence South 00°06′01″ East 100.00 feet; thence South 89°53′59″ West 300.00 feet; thence North 00°06′01″ West 100.00 feet; thence South 89°53′59″ West 2018.08 feet; thence South 00°13′49″ West 812.49 feet to a point on the southerly boundary of said Parcel “B”, thence along the southerly boundary of said parcel “B” the following two courses and distances: (1) North 89°48′20″ East 1652.05 feet; and (2) North 89°30′51″ East 1097.92 feet to the point of beginning, containing 49.21 acres, more or less. APN 021-280-063.

Dated: March 6, 2002.
Neal A. McCaleb,
Assistant Secretary—Indian Affairs.

[FR Doc. 02-6315 Filed 3-14-02; 8:45 am]

BILLING CODE 4310-4N-P